DEPARTMENT OF HOMELAND SECURITY

Coast Guard

[Docket No. USCG-2010-0455]

Environmental Impact Statement; Fort Hamer Bridge, Manatee County, FL

AGENCY: Coast Guard, DHS.

ACTION: Notice of intent to prepare a National Environmental Policy Act (NEPA) Environmental Impact Statement (EIS); request for comments; notice of public scoping meeting.

SUMMARY: The U.S. Coast Guard announces its intent to prepare an EIS for a proposed new bridge (Fort Hamer Bridge) crossing over the Manatee River in Manatee County, Florida. The proposed location for the Fort Hamer Bridge is in northeast Manatee County adjacent to Fort Hamer Park and will connect Fort Hamer Road and Upper Manatee River Road.

We request your comments on environmental concerns related to a new bridge over the Manatee River in Manatee County, Florida. This includes suggesting analyses, methodologies and possible sources of data or information related to a new bridge.

The Coast Guard will hold a public scoping meeting for citizens to provide oral and written comments relating to the proposed Fort Hamer Bridge and the preparation of an EIS. This meeting will be open to the public.

DATES: Comment period: Comments and related material must either be submitted to our online docket via http://www.regulations.gov on or before August 23, 2010, or reach the Docket Management Facility by that date.

Public meeting: A public scoping meeting will be held on Tuesday, August 17, from 4 p.m. to 8 p.m. to provide an opportunity for oral comments. If you would like to make an oral presentation at the meeting or submit written materials as part of the meeting record please provide your information identified by docket number USCG-2010-0455 to either the online docket via http://www.regulations.gov or the Docket Management Facility no later than August 3, 2010 using any one of the four methods listed under addresses. Requests to make oral comments or to submit written comments and related material may also be submitted to Coast Guard personnel specified at that meeting.

ADDRESSES: The public scoping meeting will be held at the Carlos E. Haile Middle School, 9501 E. State Road 64, Bradenton, Florida 34212-7240 and can be contacted at (941) 714-7240.

You may submit written comments identified by docket number USCG-2010-0455 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these methods. For instructions on submitting comments, see the “Public Participation and Request for Comments” portion of the SUPPLEMENTARY INFORMATION section below.

FOR FURTHER INFORMATION CONTACT: If you have questions regarding this notice, please contact Mr. Randall Overton, U.S. Coast Guard, telephone 305-415-6749, e-mail randall.d.overton@uscg.mil. If you have questions on viewing or submitting material to the docket, call Ms. Renee V. Wright, Program Manager, Docket Operations, telephone 202-366-9826.

SUPPLEMENTARY INFORMATION:

Public Participation and Request for Comments

We encourage you to participate in the scoping process by submitting comments and related material. The purpose of the scoping process is to ensure that the full range of issues related to the proposed action are addressed, and all significant issues identified, comments and suggestions are invited from all interested parties. All comments received will be posted, without change, to http://www.regulations.gov and will include any personal information you have provided.

Submitting comments: If you submit a comment, please include the docket number for this notice (USCG-2010-0455) and provide a reason for each suggestion or recommendation. We recommend that you include your name and a mailing address, an e-mail address, or a telephone number in the body of your document so that we can contact you if we have questions regarding your submission. You may submit your comments and material online, or by fax, mail or hand delivery, but please use only one of these means.

To submit your comment online, go to http://www.regulations.gov, click on the “submit a comment” box, which will then become highlighted in blue. In the “Document Type” drop down menu select “Notices” and insert “USCG-2010-0455” in the “Keyword” box. Click “Search” then click on the balloon shape in the Actions column. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the comments: To view the comments as well as documents submitted to the docket go to http://www.regulations.gov, click on the “read comments” box, which will then become highlighted in blue. In the “Keyword” box insert USCG-2010-0455 and click “Search.” Click the “Open Docket Folder” in the “Actions” column. You may also view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008 issue of the Federal Register (73 FR 3316).

Information on service for individuals with disabilities: For information on facilities or services for individuals with disabilities or to request special assistance at the public meeting contact Mr. Randall Overton, U.S. Coast Guard, telephone 305-415-6749, e-mail randall.d.overton@uscg.mil.

Background and Purpose

The proposed bridge crossing is a priority project in the Financially Feasible Plan of the Sarasota-Manatee Metropolitan Planning Organization's (SMMPO) 2030 Long Range Transportation Plan. The project's Web site is http://www.forthamerbridge.com. According to the SMMPO, the proposed bridge is needed to provide an alternate north/south route to the east of Interstate Highway 75 (I-75) and enhance emergency service access to northeast Manatee County. Further, a new bridge will serve to improve the level of service to the existing network of north Manatee County roadways as development expands through the Parrish area and northward in Manatee County. The proposed location for the Fort Hamer Bridge is in northeast Manatee County adjacent to Fort Hamer Park and will connect Fort Hamer Road and Upper Manatee River Road.

Alternatives under consideration include: (1) Taking no action; and (2) various build alternatives that satisfy the purpose and need. Build alternatives may include low, mid, and high-level fixed bridges, alternatives to the east, west and center of the project corridor, and other alternatives that may result from the scoping process. We are requesting your comments on environmental concerns that you may have related to a new bridge in northeast Manatee County. This includes suggesting analyses and methodologies for use in the EIS or possible sources of data or information we should consider.

Public Scoping Meeting

The Public Scoping Meeting is open to the public and will start with an informal open house, followed by an overview presentation and a formal public comment period.

At the open house, Coast Guard personnel will be available to provide more information about the National Environmental Policy Act (NEPA), EIS process, and the Fort Hamer Bridge design project. Project graphics providing basic information about the project and the NEPA EIS process will be on display during the informal portion of the meeting.

Attendees at the meeting, who wish to present testimony and have not previously made a request to do so, will follow those having submitted a request, as time permits. If a large number of persons wish to speak, the presiding officer may limit the time allotted to each speaker. Conversely, the public meeting may end early if all present wishing to speak have done so.

A court reporter will be present during both the informal open house and the formal public comment period to record verbal comments from the public. The public can submit written comments related to the EIS and the proposed action at any time during the meeting. Verbal comments will be recorded and transcribed, and the transcription will be placed in the public docket along with any written statements that may be submitted during the meeting. These comments and statements will be addressed by the Coast Guard as part of the EIS.

Scoping Process

Public scoping is an early and open process for determining the scope of issues to be addressed in this EIS and for identifying the issues related to the proposed action that may have a significant effect on the project environment. The scoping process begins with publication of this notice and ends after the Coast Guard has:

• Invited the participation of Federal, State, and local agencies, any affected Indian tribe, and other interested persons;

• Requested the Environmental Protection Agency, the United States Fish and Wildlife Service, the National Marine Fisheries Service, the Federal Highway Administration, and the United States Army Corps of Engineers to serve as cooperating agencies in the preparation of this EIS. With this Notice of Intent, we are asking Federal, State, and local agencies with jurisdiction or special expertise with respect to environmental issues in the project area, in addition to those we have already contacted, to formally cooperate with us in the preparation of this EIS;

• Determined the scope and the issues to be analyzed in depth in the EIS;

• Allocated responsibility for preparing the EIS components;

• Indicated any related environmental assessments or environmental impact statements that are not part of this EIS;

• Identified other relevant environmental review and consultation requirements, such as Coastal Zone Management Act consistency determinations, and threatened and endangered species and habitat impacts;

• Indicated the relationship between timing of the environmental review and other aspects of the application process; and

• Exercised our option under 40 CFR 1501.7(b) to hold the public scoping meeting announced in this notice.

Once the scoping process is complete, the Coast Guard will prepare a draft EIS, and we will publish a Federal Register notice announcing its public availability. If you wish to be mailed or e-mailed the announcement of the EIS's notice of availability, please contact the person named in FOR FURTHER INFORMATION CONTACT or send a request to be added to our contact mailing list along with your name and mailing address or an e-mail address online, by fax, mail, or hand delivery according to the “Submitting comments” instructions above. Please include the docket number for this notice (USCG-2010-0455) in your request. If you provide comments on this notice, we will automatically add your contact information to our contact mailing list and you will automatically be sent an announcement of the draft EIS's notice of availability. We will provide the public with an opportunity to review and comment on the draft EIS. After the Coast Guard considers those comments, we will prepare the final EIS and similarly announce its availability and solicit public review and comment.

Dated: July 2, 2010.
Dana A. Goward,
Director, Office of Assessment, Integration and Risk Management.

[FR Doc. 2010-16721 Filed 7-8-10; 8:45 am]

BILLING CODE 9110-04-P